DEPARTMENT OF AGRICULTURE

Submission for OMB Review; Comment Request

May 25, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 30, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: In-Home Food Safety Behaviors and Consumer Education: Annual Observational Study

OMB Control Number: 0583—New.

Summary of Collection: The U.S. Department of Agriculture's (USDA) Food Safety and Inspection Service (FSIS) has been delegated the authority to exercise the functions of the Secretary of Agriculture (7 CFR 2.18, 2.53) as specified in the Federal Meat Inspection Act the Poultry Products Inspection Act (21 U.S.C. 453, et seq., 601 et. seq.) FSIS protects the public by verifying that meat, poultry, and processed egg products are wholesome; not adulterated; and properly marked, labeled, and packaged. USDA FSIS' Office of Public Affairs and Consumer Education (OPACE) ensures that all segments of the farm-to-table chain receive valuable food safety information. The consumer education programs developed by OPACE's Food Safety Education Staff inform the public on how to safely handle, prepare, and store meat, poultry, and egg products to minimize incidence or foodborne illness. To inform the development of food safety communication products and to evaluate public health education and communication activities, FSIS is requesting approval for a new information collection to conduct observational studies using an experimental design.

Need and Use of the Information: The observational studies will help FSIS assess adherence to the four recommended food safety behaviors of clean, separate, cook, and chill; determine whether food safety messaging focused on those behaviors affects consumer food safety handing behaviors; and determine whether consumers introduce cross-contamination during food preparation. The results of this research will be used to enhance messaging and accompanying materials to improve food safety behaviors of consumers.

Description of Respondents: Individuals or households.

Number of Respondents: 2,499.

Frequency of Responses: Reporting: Annually.

Total Burden Hours: 2,950.

Ruth Brown,
Departmental Information Collection Clearance Officer.

[FR Doc. 2017-11158 Filed 5-30-17; 8:45 am]

BILLING CODE 3410-DM-P